DEPARTMENT OF THE INTERIOR

Fish and Wildlife Service

Availability of Final Environmental Impact Statement on Resident Canada Goose Management

AGENCY: Fish and Wildlife Service, Interior.

ACTION: Notice of availability.

SUMMARY: This notice is to announce the availability of a Final Environmental Impact Statement (FEIS) on resident Canada goose management. We published the Draft Environmental Impact Statement (DEIS) in March 2002. We considered over 2,700 public comments in revising the document.

DATES: The public inspection period for the FEIS will last 30 days and will end on December 19, 2005.

ADDRESSES: The document is available from the Division of Migratory Bird Management, U.S. Fish and Wildlife Service, 4401 North Fairfax Drive, Mail Stop 4107—MBSP, Arlington, Virginia 22203-1610. It is also available on the Division of Migratory Bird Management Web page at http://migratorybirds.fws.gov.

FOR FURTHER INFORMATION CONTACT: Ron W. Kokel, Division of Migratory Bird Management, U.S. Fish and Wildlife Service, at 703-358-1967.

SUPPLEMENTARY INFORMATION: The FEIS evaluates alternative strategies to reduce, manage, and control resident Canada goose populations in the continental United States and to reduce goose-related damages. The objective of the FEIS is to provide a regulatory mechanism that would allow State and local agencies, other Federal agencies, and groups and individuals to respond to damage complaints or damages by resident Canada geese. The FEIS is a comprehensive programmatic plan intended to guide and direct resident Canada goose population growth and management activities in the conterminous United States. The FEIS analyzes seven management alternatives: (1) No Action (Alternative A); (2) Increase Use of Nonlethal Control and Management (excludes all permitted activities) (Alternative B); (3) Increase Use of Nonlethal Control and Management (continued permitting of those activities generally considered nonlethal) (Alternative C); (4) Expanded Hunting Methods and Opportunities (Alternative D); (5) Control and Depredation Order Management (consisting of an Airport Control Order, a Nest and Egg Depredation Order, an Agricultural Depredation Order, and a Public Health Control Order) (Alternative E); (6) Integrated Damage Management and Population Control (PROPOSED ACTION) (Alternative F); and (7) General Depredation Order (Alternative G). Alternatives were analyzed with regard to their potential impacts on resident Canada geese, other wildlife species, natural resources, special status species, socioeconomics, historical resources, and cultural resources.

Our proposed action (Alternative F) would establish a new regulation with three main program components. The first component would be targeted to address resident Canada goose depredation, damage, and conflict management by authorizing or establishing specific resident Canada goose Control and Depredation Orders. The second component would be targeted to increase the sport harvest of resident Canada geese by providing new regulatory options to State wildlife management agencies and Tribal entities by authorizing the use of additional hunting methods. The third component would consist of a new regulation authorizing a resident Canada goose population control program, or management take. Management take is defined as a special management action that is needed to reduce certain wildlife populations when traditional management programs are unsuccessful in preventing overabundance of the population. The management take program would be implemented under the authority of the Migratory Bird Treaty Act to reduce and stabilize resident Canada goose populations. The intent of the program is to reduce resident Canada goose populations in order to protect personal property and agricultural crops, protect other interests from injury, resolve or prevent injury to people, property, agricultural crops, or other interests from resident Canada geese, and contribute to potential concerns about human health.

On March 1, 2002 (67 FR 9448), the Environmental Protection Agency published a Notice of Availability of our DEIS. On March 7, 2002 (67 FR 10431), we published our own Notice of Availability of the DEIS. We published a Notice of Meetings on the DEIS on March 26, 2002 (67 FR 13792). Initial comments were accepted until May 30, 2002. We subsequently published another Notice of Availability reopening the comment period on August 21, 2003 (68 FR 50546). Also on August 21, 2003, we published a proposed rule regarding control and management of resident Canada goose populations (68 FR 50496). Comments were accepted on both the DEIS and the proposed rule until October 20, 2003.

We received public comments on the DEIS from 2,657 private individuals, 33 State wildlife resource agencies, 37 nongovernmental organizations, 29 local governments, 5 Federal or State legislators, 4 Flyway Councils, 4 Federal agencies, 3 tribes, 3 businesses, and 2 State agricultural agencies. Of the 2,657 comments received from private individuals, 56% opposed the preferred alternative and supported only nonlethal control and management alternatives, while 40% supported either the proposed alternative or a general depredation order.

We modified the DEIS to respond to concerns and issues expressed by individuals, agencies, and organizations. Most notably, we excluded States in the Pacific Flyway from some of the available management components and shifted implementation and responsibility on some of the program components from the State to the U.S. Fish and Wildlife Service. Our proposed action remains Alternative F. A Record of Decision and final rule will be published after the inspection period (see DATES section).

Dated: October 17, 2005.
Matt Hogan,
Deputy Director, Fish and Wildlife Service.

[FR Doc. 05-22813 Filed 11-17-05; 8:45 am]

BILLING CODE 4310-55-P